DEPARTMENT OF ENERGY

Federal Energy Regulatory Commission

[Project No. 2467-021]

Pacific Gas and Electric Company, Merced Irrigation District; Notice of Application for Transfer of License, Approval of Transfer of Project Lands, Substitution of Relicense Applicant, and Soliciting Comments, Motions To Intervene, and Protests

On April 1, 2015, Pacific Gas and Electric Company (transferor) and Merced Irrigation District (transferee) filed a joint application for: (1) Transfer of license for the Merced Falls Project, FERC No. 2467, located on the Merced River in Merced and Mariposa counties, California, (2) approval of transfer of project lands, and (3) substitution of the transferee for the transferor as the applicant in the pending application for a new license filed by the transferor in Project No. 2467-020.

Applicant Contact: For Transferor: Ms. Annette Faraglia, Attorney, Pacific Gas and Electric Company, 77 Beale Street, B30A-2470, San Francisco, CA 94105, Phone: 415-973-7145, Email: ARF3@pge.com and Mr. Randy Livingston, VP—Power Generation, Pacific Gas and Electric Company, 245 Market St., N11E-1137, San Francisco, CA 94105, Phone: 415-973-6950, Email: RSL3@pge.com. For Transferee: Mr. Phillip R. McMurray, General Counsel, Merced Irrigation District, 744 W. 20th Street, Merced, CA 95340-3601, Phone: 209-354-2855, Email: PMcMurray@mercedid.org.

FERC Contact: Patricia W. Gillis, (202) 502-8735.

Deadline for filing comments, motions to intervene, and protests: 30 days from the issuance date of this notice, by the Commission. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2467.

Dated: April 20, 2015.
Nathaniel J. Davis, Sr.,
Deputy Secretary.

[FR Doc. 2015-09690 Filed 4-24-15; 8:45 am]

BILLING CODE 6717-01-P